DEPARTMENT OF TRANSPORTATION

National Highway Traffic Safety Administration

[Docket No. NHTSA-2015-0030; Notice 2]

Continental Tire the Americas, LLC, Grant of Petition for Decision of Inconsequential Noncompliance

AGENCY: National Highway Traffic Safety Administration (NHTSA), Department of Transportation (DOT).

ACTION: Grant of Petition.

SUMMARY: Continental Tire the Americas, LLC, (CTA), has determined that certain Continental brand TKC80 diagonal (bias) motorcycle replacement tires do not fully comply with paragraph S6.5(c) of Federal Motor Vehicle Safety Standard (FMVSS) No. 119, New Pneumatic Radial Tires for motor vehicles with a GVWR of more than 4,536 Kilograms (10,000 pounds) and Motorcycles. CTA has filed an appropriate report dated February 18, 2015, pursuant to 49 CFR part 573, Defect and Noncompliance Responsibility and Reports.

ADDRESSES: For further information on this decision contact Abraham Diaz, Office of Vehicles Safety Compliance, the National Highway Traffic Safety Administration (NHTSA), telephone (202) 366-5310, facsimile (202) 366-5930.

SUPPLEMENTARY INFORMATION:

I. CTA's Petition

Pursuant to 49 U.S.C. 30118(d) and 30120(h) (see implementing rule at 49 CFR part 556), CTA submitted a petition for an exemption from the notification and remedy requirements of 49 U.S.C. Chapter 301 on the basis that this noncompliance is inconsequential to motor vehicle safety.

Notice of receipt of the CTA's petition was published, with a 30-day public comment period, on May 4, 2015 in the Federal Register (80 FR 25355). No comments were received. To view the petition and all supporting documents log onto the Federal Docket Management System (FDMS) Web site at: http://www.regulations.gov/. Then follow the online search instructions to locate docket number “NHTSA-2015-0030.”

II. Tires Involved

Affected are approximately 1,062 Continental brand TKC80 size 120/70-19 M/C 60Q diagonal (bias) motorcycle replacement tires manufactured between April 8, 2012 and January 31, 2015.

III. Noncompliance

CTA explains that the noncompliance is that the tire size designation marking on the sidewalls of the subject tires does not contain the correct construction code designator symbol from The Tire and Rim Association yearbook. Therefore, the tires do not fully comply with paragraph S6.5(c) of FMVSS No. 119 because the tire size designation is not as listed in the documents and publications designated in S5.1. Specifically, the tires were marked with the construction code designator “B” indicating bias-belted construction and should have been marked with the designator “-” indicating diagonal (bias) construction.

IV. Rule Text

Paragraph S6.5 of FMVSS No. 119 requires in pertinent part:

S6.5 Tire Markings. Except as specified in paragraphs, each tire shall be marked on each sidewall with the information specified in paragraphs (a) through (j) of this section . . .

(c) The tire size designation as listed in the documents and publications designated in S5.1.

V. Summary of CTA's Analyses

CTA stated its belief that the subject noncompliance is inconsequential to motor vehicle safety for the following reasons:

(A) CTA notes that the only improper marking on the sidewall of the subject tires is the use of the letter character “B” in the tire size designation instead of a hyphen character “-,” and that from its experience it believes that most motorcycle tire consumers do not understand the differences in tire construction and therefore do not base tire purchases on the tire construction type.

(B) CTA stated that the subject tires were built as designed and that the performance requirements and testing requirements specified in FMVSS No. 119 are exactly the same for both bias-belted and diagonal (bias) tires.

(C) CTA believes that the subject noncompliance has no impact on the safety of vehicles on which the subject tires are mounted and that the subject tires meet or exceed all the performance requirement of FMVSS No. 119.

(D) CTA also stated that it is not aware of any crashes, injuries, customer complaints, or field reports associated with the subject noncompliance.

CTA additionally informed NHTSA that the molds at the manufacturing plant have been corrected so that no additional tires will be manufactured or sold with the noncompliance.

In summation, CTA believes that the described noncompliance of the subject tires is inconsequential to motor vehicle safety, and that its petition, to exempt CTA from providing recall notification of noncompliance as required by 49 U.S.C. 30118 and remedying the recall noncompliance as required by 49 U.S.C. 30120 should be granted.

NHTSA's Decision

NHTSA's Analysis of CTA's Arguments: CTA acknowledges that the subject tires were wrongly stamped with the size marking “120/70B19 M/C 60Q,” which includes the construction code designator “B” that incorrectly indicates bias-belted ply construction. The tires should have been marked “120/70-19M/C 60Q,” which includes the hyphen “-” indicating diagonal (bias) ply construction.

Because bias-belted motorcycle tires and diagonal (bias) motorcycle tires require the same rim specification, there is no additional possibility of confusion when mounting a bias-belted or a diagonal bias tire due to the noncompliance.

Furthermore, there is no additional safety risk of overloading or over pressurization due to the subject noncompliance because the maximum permissible pressures and maximum permissible loads for the subject tires as listed in the Tire and Rim Association Yearbook are the same for all three types of motorcycle tire ply construction; radial, diagonal (bias), and bias-belted.

Because mislabeling has no impact on the operational performance or durability of these tires, or on the safety of vehicles on which these tires are mounted, NHTSA agrees with CTA that the noncompliance is inconsequential to motor vehicle safety.

NHTSA's Decision: In consideration of the foregoing, NHTSA has decided that CTA has met its burden of persuasion that the noncompliance described is inconsequential to motor vehicle safety. Accordingly, CTA's petition is hereby granted and CTA is exempted from the obligation of providing notification of, and remedy for the subject noncompliance.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject tires that CTA no longer controlled at the time it determined that the noncompliance existed. However, the granting of this petition does not relieve tire distributors and dealers of the prohibitions on the sale, offer for sale, or introduction or delivery for introduction into interstate commerce of the noncompliant tires under their control after CTA notified them that the subject noncompliance existed.

Authority: 49 U.S.C. 30118, 30120: Delegations of authority at 49 CFR 1.95 and 501.8.

Jeffrey Giuseppe,
Director, Office of Vehicle Safety Compliance.

[FR Doc. 2015-16640 Filed 7-7-15; 8:45 am]

BILLING CODE 4910-59-P